DEPARTMENT OF COMMERCE

National Oceanic and Atmospheric Administration

50 CFR Part 229

[Docket No. 080103017-8466-02]

RIN 0648-AS01

Taking of Marine Mammals Incidental to Commercial Fishing Operations; Atlantic Large Whale Take Reduction Plan Regulations; Correction

AGENCY: National Marine Fisheries Service (NMFS), National Oceanic and Atmospheric Administration (NOAA), Commerce.

ACTION: Final rule; correction.

SUMMARY: This document contains a correction to the final rule to amend the regulations implementing the Atlantic Large Whale Take Reduction Plan (ALWTRP) that was published in the Federal Register, Friday, October 5, 2007.

DATES: This correction is effective October 5, 2008.

FOR FURTHER INFORMATION CONTACT: Diane Borggaard, NMFS, Northeast Region, 978-281-9300 Ext. 6503, diane.borggaard@noaa.gov; Kristy Long, NMFS, Office of Protected Resources, 301-713-2322, kristy.long@noaa.gov.

SUPPLEMENTARY INFORMATION: The final rule that is the subject of this correction was published Friday, October 5, 2007 (72 FR 57104). That final rule contains inadvertent errors concerning the effective dates of the rule in both the preamble and regulatory text.

This rule provides clarification regarding the effective date for the majority of the provisions of the October 5, 2007 final rule. The DATES section in the preamble and the regulatory text clearly reflect NMFS' intent for the majority of the provisions in the rule to become effective on April 5, 2008. However, the discussion in the preamble inadvertently referenced an incorrect date, April 7, 2008, for the majority of the provisions. NMFS is clarifying that the correct effective date for the majority of the provisions of the ALWTRP rule is April 5, 2008, as clearly stated in the DATES section and the regulatory text.

In addition, this rule corrects the effective date for certain paragraphs of § 229.32. Due to an inadvertent error, both the preamble and regulatory text incorrectly indicate that the effective date for those paragraphs is October 6, 2008. This rule corrects the preamble and regulatory text of § 229.32 to correct this error. The correct effective date for the regulatory text in § 229.32 paragraphs (c)(5)(ii)(B), (c)(6)(ii)(B), (c)(7)(ii)(C), (c)(8)(ii)(B), (c)(9)(ii)(B), (d)(6)(ii)(D), (d)(7)(ii)(D) and (i)(3), is October 5, 2008. All other information remains unchanged and will not be repeated in this correction.

E.O. 12866: This final rule has been determined to be not significant under EO 12866.

Administrative Procedure Act: The AA finds good cause under 5 U.S.C. 553(b)(B) to waive notice and opportunity for public comments as it is unnecessary and contrary to the public interest. In the October 5, 2007, final rule, the DATES section correctly reflected the intended effective dates of certain paragraphs of § 229.32. However, due to an inadvertent error, part of the preamble and the regulatory text did not reflect the same effective dates as published in the DATES section. This rule clarifies the discussion in the October 5, 2007 preamble and corrects the regulatory text to reflect the correct effective dates for § 229.32. If this rule were subject to notice and opportunity to comment, the provisions published in the October 5, 2007, final rule would go into effect on the incorrect date. In order to avoid confusion with regard to the effective dates of the relevant provisions, the AA waives the rulemaking requirements for this rule.

Correction

The following are corrections to FR Doc. 07-4904, October 5, 2007:

1. On page 57185, in the first column, in § 229.32(c)(5)(ii)(B), “October 6, 2008” should read “October 5, 2008”.

2. On page 57185, in the third column, in § 229.32(c)(6)(ii)(B), “October 6, 2008” should read “October 5, 2008”.

3. On page 57186, in the first column, in § 229.32(c)(7)(ii)(C), “October 6, 2008” should read “October 5, 2008”.

4. On page 57186, in the second column, in § 229.32(c)(8)(ii)(B), “October 6, 2008” should read “October 5, 2008”.

5. On page 57187, in the first column, in § 229.32(c)(9)(ii)(B), “October 6, 2008” should read “October 5, 2008”.

6. On page 57189, in the first column, in § 229.32(d)(6)(ii)(D), “October 6, 2008” should read “October 5, 2008”.

7. On page 57190, in the first column, in § 229.32(d)(7)(ii)(D), “October 6, 2008” should read “October 5, 2008”.

8. On page 57193, in the second column, in § 229.32(i)(3), “October 6, 2008” should read “October 5, 2008”.

Authority: 16 U.S.C. 1361 et seq.; § 229.32(f) also issued under 16 U.S.C. 1531 et seq.

Dated: April 4, 2008.
James W. Balsiger,
Acting Assistant Administrator for Fisheries, National Marine Fisheries Service.

[FR Doc. 08-1116 Filed 4-4-08; 2:17 pm]

BILLING CODE 3510-22-P